DEPARTMENT OF DEFENSE

Department of the Navy

Notice of Intent To Grant Partially-Exclusive Patent License; Sound Metrics Corp.

AGENCY: Department of the Navy, DoD.

ACTION: Notice.

SUMMARY: The Department of the Navy hereby gives notice of its intent to grant to Sound Metrics Corp. a revocable, non-assignable, partially-exclusive license to practice in the United States, the Government-owned invention described in U.S. Patent No. 12/806,258, Navy Case No. 100,287: Facemask Display.

DATES: Anyone wishing to object to the grant of this license must file written objections along with supporting evidence, if any, not later than July 1, 2011.

ADDRESSES: Written objections are to be filed with the Office of Counsel, Naval Surface Warfare Center Panama City, 110 Vernon Ave., Code CDL, Panama City, FL 32407-7001.

FOR FURTHER INFORMATION CONTACT: Mr. James Shepherd, Patent Counsel, Naval Surface Warfare Center Panama City, 110 Vernon Ave., Panama City, FL 32407-7001, telephone 850-234-4646, fax 850-235-5497, or james.t.shepherd@navy.mil.

Authority: 35 U.S.C. 207, 37 CFR Part 404.

Dated: June 9, 2011.
L.M. Senay,
Lieutenant, Judge Advocate General's Corps, U.S. Navy, Federal Register Liaison Officer.

[FR Doc. 2011-14930 Filed 6-15-11; 8:45 am]

BILLING CODE 3810-FF-P